DEPARTMENT OF COMMERCE

U.S. Census Bureau

Proposed Information Collection; Comment Request; 2017 Economic Census, Industry Classification Report

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before April 25, 2016.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Scott Handmaker, Chief, Classifications Processing Branch, U.S. Census Bureau, 8K149, Washington, DC 20233, Telephone: 301-763-7107; Email: Scott.P.Handmaker@census.gov.

SUPPLEMENTARY INFORMATION:

I. Abstract

It is important to have a complete North American Industry Classification System (NAICS) based code for each establishment in the Census Bureau's business register prior to the economic census. The economic census, conducted under authority of Title 13 U.S.C., Section 131 is the primary source of facts about the structure and functioning of the Nation's economy and features unique industry and geographic detail. Economic census statistics serve as part of the framework for the national accounts and provide essential information for government, business, and the general public.

The Industry Classification Report collects data from establishments in all NAICS sectors that are covered by the economic census with the purpose of assigning an accurate 8-digit NAICS based code for use in the 2017 Economic Census. The Industry Classification Report collects data about businesses in such areas as: Primary business activity, class of customer (if the establishment is a wholesaler or retailer), and primary goods sold or services provided. This survey, conducted in fiscal years 2016 and 2017, samples approximately 120,000 businesses each year.

The Census Bureau will select establishments to receive this survey from the Census Bureau's business register. The Census Bureau will mail a letter to establishments that have been assigned a partial NAICS code by administrative records or are unclassified in the business register. Additionally, other categories of administrative records may be identified.

Collecting this classification information will ensure the mailing list for the targeted sectors is complete and accurate prior to the mailing of the 2017 Economic Census. The information gathered will also be used to determine whether an establishment will be included in the data collection for the 2017 Economic Census, and if so, what are the appropriate North American Product Classification System (NAPCS) product lines to be displayed for that establishment on their 2017 Economic Census questionnaire. Many businesses are small and will not be asked to participate in the 2017 Economic Census. This survey is the only way to obtain an accurate 8-digit NAICS-based code for these small businesses, represented in the census through the use of administrative data only. In other cases, the Census Bureau produces sample estimates. The results of this collection will be used to select a statistically reliable and efficient sample, minimizing the reporting burden on sampled sectors. Proper NAICS classification data ensures high quality economic statistics while reducing respondent burden and overall processing costs. Failure to collect this data will have an adverse effect on the quality and usefulness of economic information provided by the Census Bureau.

There are no new questions on this survey since it was last conducted in preparation for the 2012 Economic Census. However, there will no longer be a paper form on which to report. Respondents can report over the Internet or by telephone. We will work with individual respondents if reporting on the Internet or by telephone presents difficulties.

Minimal changes will be made to the wording and organization of existing questions and instructions.

II. Method of Collection

We will collect this information over the Internet and by telephone. Respondents will receive a letter directing them to the Internet to report their information. Follow up letters will be mailed for establishments that have not responded by a certain date. Throughout the survey, telephone assistance will be available for respondents with questions and for those that cannot report over the Internet.

III. Data

OMB Number: None.

Form Number: None. The information will be gathered electronically.

Type of Review: Regular submission.

Affected Public: Businesses and Organizations (both profit and non-profit); State and Local Governments; Small Businesses.

Estimated Number of Respondents: 125,000 business firms annually.

Estimated Time per Response: 7 minutes.

Estimated Total Annual Burden Hours: 14,583 hours.

Estimated Total Annual Cost to Public: $0.

Respondent's Obligation: Mandatory.

Legal Authority: Title 13 U.S.C. Sections 131 and 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 19, 2016.
Glenna Mickelson,
Management Analyst, Office of the Chief Information Officer.

[FR Doc. 2016-03958 Filed 2-24-16; 8:45 am]

BILLING CODE 3510-07-P